DEPARTMENT OF TRANSPORTATION

Federal Aviation Administration

14 CFR Part 39

[Docket No. FAA-2010-0410; Directorate Identifier 2010-SW-024-AD; Amendment 39-16265; AD 2010-05-51]

RIN 2120-AA64

Airworthiness Directives; Eurocopter France (ECF) Model EC120B Helicopters

AGENCY: Federal Aviation Administration, DOT.

ACTION: Final rule; request for comments.

SUMMARY: This document publishes in the Federal Register an amendment adopting Airworthiness Directive (AD) 2010-05-51, which was sent previously to all known U.S. owners and operators of ECF Model EC120B helicopters by individual letters. This AD requires, at specified intervals, inspecting the main rotor head rotor hub (rotor hub) for a crack. If you find scoring, paint flaking or left-over identification plate adhesive, the AD requires sanding the area until the primer coat becomes visible and inspecting the rotor hub for a crack. If you find a crack, the AD requires, before further flight, replacing the rotor hub with an airworthy rotor hub. This amendment is prompted by a mandatory continuing airworthiness information (MCAI) AD issued by the European Aviation Safety Agency (EASA), which is the Technical Agent for the Member States of the European Community. The MCAI AD states that ECF has been informed of an emergency landing due to excessive vibrations originating from the main rotor. After an investigation, it was determined that the main rotor head rotor hub (rotor hub) had failed in the attachment area of one of the three drag damper fittings. The actions specified by the AD are intended to prevent failure of a hub, excessive vibrations, loss of a main rotor blade, and subsequent loss of control of the helicopter.

DATES: Effective May 14, 2010, to all persons except those persons to whom it was made immediately effective by Emergency AD (EAD) 2010-05-51, issued on February 24, 2010, which contained the requirements of this amendment.

The incorporation by reference of certain publications listed in the regulations is approved by the Director of the Federal Register as of May 14, 2010.

Comments for inclusion in the Rules Docket must be received on or before June 28, 2010.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: DOT/FAA Southwest Region, Gary Roach, ASW-111, Aviation Safety Engineer, Rotorcraft Directorate, Regulations and Guidance Group, 2601 Meacham Blvd, Fort Worth, Texas 76137, telephone (817) 222-5130, fax (817) 222-5961.

SUPPLEMENTARY INFORMATION: On February 24, 2010, the FAA issued EAD 2010-05-51 for the ECF Model EC120B helicopters. This AD requires, within specified intervals, inspecting the rotor hub for a crack and removing the identification plate and cleaning the area. If you find scoring, paint flaking or left-over identification plate adhesive, the AD requires sanding the area until the primer coat becomes visible and inspecting the rotor hub for a crack. If you find a crack, the AD requires, before further flight, replacing the rotor hub with an airworthy rotor hub. This amendment is prompted by an emergency landing due to excessive vibrations originating from the main rotor. After an investigation, it was determined the rotor hub had failed in the attachment area of one of the three drag damper fittings. This condition, if not corrected, could result in failure of a hub, excessive vibrations, loss of a main rotor blade, and subsequent loss of control of the helicopter.

EASA, the airworthiness authority for France, notified the FAA that an unsafe condition may exist on these helicopter models. EASA advises of an emergency landing due to a set of amplitude vibrations originating from the main rotor.

ECF has issued Emergency Alert Service Bulletin No. 05A012, Revision 1, dated February 19, 2010 (EASB), which specifies inspecting the rotor hub for a crack. Also, if you find local deterioration (scoring or paint spalling), the EASB specifies sanding the area, removing the finish paint until the primer coat becomes visible, and inspecting the area for a crack. If you find a crack, the EASB specifies replacing the affected rotor hub with a new rotor hub.

EASA classified this service bulletin as mandatory and issued AD No. 2010-0026-E, dated February 19, 2010, to ensure the continued airworthiness of these helicopters in France.

This AD differs from the MCAI AD in that we refer to flight hours as time-in-service (TIS). Also, we do not require you to contact the manufacturer.

This helicopter model is manufactured in France and is type certificated for operation in the United States under the provisions of 14 CFR 21.29 and the applicable bilateral agreement. Pursuant to the applicable bilateral agreement with France, EASA, their technical agent, has kept the FAA informed of the situation described above. The FAA has examined the findings of EASA, reviewed all available information, and determined that AD action is necessary for products of this type design that are certificated for operation in the United States.

Since the unsafe condition described is likely to exist or develop on other ECF Model EC120B helicopters of the same type design, the FAA issued EAD 2010-05-51. The AD requires, at specified intervals, inspecting the rotor hub for a crack. If you find scoring, paint flaking or left-over identification plate adhesive, the AD requires sanding the area and inspecting the specified areas of the rotor hub for a crack. If you find a crack, the AD requires, before further flight, replacing the rotor hub with an airworthy rotor hub. The actions must be done by following specified portions of the EASB. The short compliance time involved is required because the previously described critical unsafe condition can adversely affect the controllability and structural integrity of the helicopter. Therefore, inspecting the rotor hub for a crack is required within 15 hours TIS, and if you find a crack, replacing the rotor hub with an airworthy rotor hub is required before further flight, and this AD must be issued immediately.

Since it was found that immediate corrective action was required, notice and opportunity for prior public comment thereon were impracticable and contrary to the public interest, and good cause existed to make the AD effective immediately by individual letters issued on February 24, 2010, to all known U.S. owners and operators of ECF Model EC120B helicopters. These conditions still exist, and the AD is hereby published in the Federal Register as an amendment to 14 CFR 39.13 to make it effective to all persons. However, we made a minor editorial change in paragraph (a) of this AD. We added the word, “Eurocopter” in front of the words, “Emergency Alert Service Bulletin,” which we inadvertently omitted in the EAD. We have determined that this change will neither increase the economic burden on any operator nor increase the scope of the AD.

The FAA estimates that this AD will affect 114 helicopters of U.S. registry, and inspecting the rotor hub for a crack will take a minimal amount of time. It will take about 1 hour to do the sanding, assuming 37 rotor hubs require sanding. It will take about 6 hours to replace a rotor hub, assuming 2 helicopters will require replacement of a rotor hub. The average labor rate is $85 per hour. Required parts will cost about $61,685 per helicopter. Based on these figures, we estimate the total cost impact of the AD on U.S. operators to be $127,535.

Comments Invited

This AD is a final rule that involves requirements that affect flight safety and was not preceded by notice and an opportunity for public comment; however, we invite you to submit any written data, views, or arguments regarding this AD. Send your comments to an address listed under ADDRESSES. Include “Docket No. FAA-2010-0410; Directorate Identifier 2010-SW-024-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2010-05-51 Eurocopter France: Amendment 39-16265. Docket No. FAA-2010-0410; Directorate Identifier 2010-SW-024-AD.

Applicability

Model EC120B helicopters, with a main rotor head with a rotor hub, part number (P/N) C622A1002103, C622A1002104, or C622A1002105, installed, certificated in any category.

Compliance

Required as indicated.

To prevent failure of a main rotor hub, excessive vibrations, loss of a main rotor blade, and subsequent loss of control of the helicopter, do the following:

(a) Within 15 hours time-in-service (TIS), unless done previously, and thereafter at intervals not to exceed 15 hours TIS, inspect the rotor hub for a crack in the areas depicted in Figures 1 and 2, areas “A1” and “A2,” of Eurocopter Emergency Alert Service Bulletin No. 05A012, Revision 1, dated February 19, 2010 (EASB). If the identification plate “b” depicted in Figure 2 of the EASB is in the inspection areas “A1” or “A2,” remove the plate and clean the area where the identification plate information will be marked “B,” by following the Accomplishment Instructions, paragraph 2.B.2.a., of the EASB.

(1) If you find scoring, paint flaking, or left-over identification plate adhesive, sand the area using No. 600-grit (fine grit) abrasive paper until the primer coat becomes visible and inspect the rotor hub for a crack.

(2) If you find a crack, before further flight, replace the rotor hub with an airworthy rotor hub.

(b) To request a different method of compliance or a different compliance time for this AD, follow the procedures in 14 CFR 39.19. Contact the Manager, Safety Management Group, ATTN: DOT/FAA Southwest Region, Gary Roach, ASW-111, Aviation Safety Engineer, Rotorcraft Directorate, Regulations and Guidance Group, 2601 Meacham Blvd, Fort Worth, Texas 76137, telephone (817) 222-5130, fax (817) 222-5961, for information about previously approved alternative methods of compliance.

(c) Special flight permits will not be issued.

(d) The Joint Aircraft System/Component (JASC) Code is 6220: Main Rotor Head.

(e) The inspections shall be done by following the specified portions of Eurocopter Emergency Alert Service Bulletin No. 05A012, Revision 1, dated February 19, 2010. The Director of the Federal Register approved this incorporation by reference in accordance with 5 U.S.C. 552(a) and 1 CFR part 51. Copies may be obtained from American Eurocopter Corporation, 2701 Forum Drive, Grand Prairie, TX 75053-4005, telephone (800) 232-0323, fax (972) 641-3710, or at http://www.eurocopter.com. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(f) This amendment becomes effective on May 14, 2010, to all persons except those persons to whom it was made immediately effective by EAD 2010-05-51, issued February 24, 2010, which contained the requirements of this amendment.

Note: The subject of this AD is addressed in European Aviation Safety Agency AD No. 2010-0026-E, dated February 19, 2010.

Issued in Fort Worth, Texas, on April 12, 2010.
Mark R. Schilling,
Acting Manager, Rotorcraft Directorate, Aircraft Certification Service.

[FR Doc. 2010-9007 Filed 4-28-10; 8:45 am]

BILLING CODE 4910-13-P